DEPARTMENT OF VETERANS AFFAIRS

[OMB Control No. 2900-0095]

Agency Information Collection Activity: Pension Claim Questionnaire for Farm Income

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0095.

FOR FURTHER INFORMATION CONTACT: Maribel Aponte, Office of Enterprise and Integration, Data Governance Analytics (008), 1717 H Street NW, Washington, DC 20006, (202) 266-4688 or email maribel.aponte@va.gov. Please refer to “OMB Control No. 2900-0095” in any correspondence.

SUPPLEMENTARY INFORMATION:

Authority: 38 U.S.C. 1503 and 38 U.S.C. 1522.

Title: Pension Claim Questionnaire for Farm Income (21P-4165).

OMB Control Number: 2900-0095.

Type of Review: Revision of a currently approved collection.

Abstract: The Department of Veterans Affairs (VA) through its Veterans Benefits Administration (VBA) administers an integrated program of benefits and services, established by law, for Veterans, service personnel, and their dependents and/or beneficiaries.

Entitlement to pension benefits for Veterans and their surviving dependents is based on the family's countable annual income under the authority of 38 U.S.C. 1503 and under the authority of 38 U.S.C. 1522. VA Form 21P-4165 is used to gather the necessary information to evaluate the claimant's countable income and net worth related to the operation of a farm for the purpose of establishing entitlement to pension benefits and to evaluate a beneficiary's ongoing entitlement to pension benefits.

The respondent burden has decreased due to the estimated number of receivables averaged over the past year. No other changes have been made to this form.

An agency may not conduct or sponsor, and a person is not required to respond to a collection of information unless it displays a currently valid OMB control number. The Federal Register Notice with a 60-day comment period soliciting comments on this collection of information was published at 87 FR 86 on May 4, 2022, page 26393.

Affected Public: Individuals or Households.

Estimated Annual Burden: 109 hours.

Estimated Average Burden per Respondent: 30 minutes.

Frequency of Response: On occasion.

Estimated Number of Respondents: 218.

By direction of the Secretary.
Maribel Aponte,
VA PRA Clearance Officer, Office of Enterprise and Integration, Data Governance Analytics, Department of Veterans Affairs.

[FR Doc. 2022-14669 Filed 7-8-22; 8:45 am]

BILLING CODE 8320-01-P